DEPARTMENT OF THE INTERIOR

National Park Service

Notice of Availability of the Draft South Florida and Caribbean Parks Exotic Plant Management Plan/Draft Environmental Impact Statement, Big Cypress National Preserve, FL; Biscayne National Park, FL; Canaveral National Seashore, FL; Dry Tortugas National Park, FL; Everglades National Park, FL; Buck Island Reef National Monument, VI; Christiansted National Historic Site, VI; Salt River Bay National Historic Park and Ecological Preserve, VI; and Virgin Islands National Park, VI

AGENCY: National Park Service, Department of the Interior.

SUMMARY: Pursuant to the National Environmental Policy Act (NEPA) of 1969, 42 U.S.C. 4332(2)(C), the National Park Service (NPS) announces the availability of a Draft South Florida and Caribbean Parks Exotic Plant Management Plan/Draft Environmental Impact Statement (DEIS) for Big Cypress National Preserve, Florida, Biscayne National Park, Florida, Canaveral National Seashore, Florida, Dry Tortugas National Park, Florida, Everglades National Park, Florida, Buck Island Reef National Monument, Virgin Islands, Christiansted National Historic Site, Virgin Islands, Salt River Bay National Historic Park and Ecological Preserve, Virgin Islands, and Virgin Islands National Park, Virgin Islands.

DATES: There will be a 60-day public review period for comments on this document. Comments on the DEIS must be received no later than 60 days after the Environmental Protection Agency publishes its notice of availability in the Federal Register.

ADDRESSES: Copies of the DEIS are available on the World Wide Web by accessing http://parkplanning.nps.gov/EVER, by request by writing to Sandra Hamilton, Environmental Quality Division, National Park Service, Academy Place, P.O. Box 25287, Denver, CO 80225, by phone (303-969-2068), or the document can be picked-up in person at the participating parks' headquarters.

FOR FURTHER INFORMATION CONTACT: Sandra Hamilton, Environmental Quality Division, National Park Service, Academy Place, P.O. Box 25287, Denver, Colorado 80225, phone (303-969-2068).

SUPPLEMENTARY INFORMATION: In accordance with the Federal Noxious Weed Act of 1974, as amended (7 U.S.C. 280 et seq.), the United States government has designated certain plants as noxious weeds; many of these are exotic plant species. Approximately 1,200 exotic plant species in Florida and the Caribbean have become established in natural areas, and as many as 4% of those exotic plant species have displaced native species. Exotic plants compete aggressively with native plants and are often at an advantage because they have little or no predatory control. Among other problems, exotic plants displace native species, alter native species proportion, degrade or reduce available habitat for threatened and endangered species, consume nutrients, alter fire patterns, reduce recreational opportunities and clog waterways.

The purpose of this DEIS is to (1) provide a programmatic plan to manage and control exotic plants in nine parks in south Florida and the Caribbean; (2) promote restoration of native species and habitat conditions in ecosystems that have been invaded by exotic plants', and (3) protect park resources and values from adverse effects resulting from exotic plant presence and control activities. The DEIS evaluates a range of reasonable alternatives for managing exotic plants in nine parks in south Florida and the Caribbean.

Three alternatives are examined: Alternative A, No Action, Continue Current Management; Alternative B, New Framework For Exotic Plant Management: Increased Planning, Monitoring, and Mitigation; and Alternative C, New Framework for Exotic Plant Management: Increased Planning, Monitoring, and Mitigation, with an Emphasis on Active Restoration of Native Plants. The NPS preferred alternative is Alternative C; the “environmentally preferred” alternative is also Alternative C.

At the end of the EIS planning process, the record of decision announces which alternative has been selected to guide future management of exotic plants in the nine parks.

Persons wishing to comment may do so by posting comments on the World Wide Web at http://parkplanning.nps.gov/EVER or mailing comments to Sandra Hamilton, Environmental Quality Division, National Park Service, Academy Place, P.O. Box 25287, Denver, CO 80225. Our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Authority: The authority for publishing this notice is 40 CFR 1506.6.

The responsible official for this DEIS is the Regional Director for the Southeast Region, Patricia A. Hooks.

Dated: June 30, 2006.
Patricia A. Hooks,
Regional Director, Southeast Region.

[FR Doc. E6-15437 Filed 9-26-06; 8:45 am]

BILLING CODE 4310-V6-P